DEPARTMENT OF COMMERCE

National Oceanic and Atmospheric Administration

RIN 0648-XT27

Endangered Species; File No. 14506

AGENCY: National Marine Fisheries Service (NMFS), National Oceanic and Atmospheric Administration (NOAA), Commerce.

ACTION: Notice; receipt of application.

SUMMARY: Notice is hereby given that Llewellyn Ehrhart, University of Central Florida, P.O. Box 162368, Orlando, Florida 32816, has applied in due form for a permit to take green (Chelonia mydas), hawksbill (Eretmochelys imbricata), Kemp's ridley (Lepidochelys kempii), loggerhead (Caretta caretta), and leatherback (Dermochelys coriacea) sea turtles for purposes of scientific research.

DATES: Written, telefaxed, or e-mail comments must be received on or before January 15, 2010.

ADDRESSES: The application and related documents are available for review by selecting “Records Open for Public Comment” from the Features box on the Applications and Permits for Protected Species (APPS) home page, https://apps.nmfs.noaa.gov/index.cfm, and then selecting File No. 14506 from the list of available applications. These documents are also available for review upon written request or by appointment in the following offices:

Permits, Conservation and Education Division, Office of Protected Resources, NMFS, 1315 East-West Highway, Room 13705, Silver Spring, MD 20910; phone (301) 713-2289; fax (301) 713-0376; and

Southeast Region, NMFS, 263 13th Avenue South, St. Petersburg, FL 33701; phone (727) 824-5312; fax (727) 824-5309.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301) 713-0376, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 14506.

FOR FURTHER INFORMATION CONTACT: Amy Hapeman or Patrick Opay, (301) 713-2289.

SUPPLEMENTARY INFORMATION: The subject permit is requested under the authority of the Endangered Species Act of 1973, as amended (ESA; 16 U.S.C. 1531 et seq.) and the regulations governing the taking, importing, and exporting of endangered and threatened species (50 CFR 222-226).

Dr. Ehrhart requests a five-year research permit to continue long-term studies of sea turtle populations in three disparate habitats on Florida's Atlantic coast. Project 1 would occur in the Indian River Lagoon System, Project 2 would occur over the Sabellariid work rock reefs of Indian River County, and Project 3 would occur in the Trident Turning Basin, Cape Canaveral Air Force Station. Researchers would assess population structure, trends in relative abundance, habitat utilization, sex ratios, physiology, genetics, zoogeography, and epidemiology of sea turtles in these habitats. Turtles would be captured using tangle and dip nets. For Project 1 researchers would annually capture, flipper tag, passive integrated transponder (PIT) tag, measure, weigh, blood sample, tissue biopsy, lavage, photograph, and/or remove epibiota from: 100 loggerhead, 260 green, 3 Kemp's ridley, 2 hawksbill, and 1 leatherback sea turtle. Up to 10 of the green sea turtles would have a transmitter attached to the carapace annually. For Project 2 researchers would annually capture, flipper tag, PIT tag, measure, weigh, blood sample, tissue biopsy, lavage, photograph, and/or remove epibiota from: 10 loggerhead, 140 green, 2 Kemp's ridley, and 2 hawksbill sea turtles. For Project 3 researchers would annually capture, flipper tag, PIT tag, measure, weigh, blood sample, tissue biopsy, lavage, mark the carapace with paint, and photograph, and/or remove epibiota from: 10 loggerhead, 140 green, 1 Kemp's ridley, 1 hawksbill, and 1 leatherback sea turtle.

Dated: December 11, 2009.
P. Michael Payne,
Chief, Permits, Conservation and Education Division, Office of Protected Resources, National Marine Fisheries Service.

[FR Doc. E9-29940 Filed 12-15-09; 8:45 am]

BILLING CODE 3510-22-P